NATIONAL ARCHIVES AND RECORDS ADMINISTRATION

Office of Government Information Services

[NARA-2026-001]

Notice of Meeting; Chief Freedom of Information Act (FOIA) Officers Council

AGENCY: Office of Government Information Services (OGIS), National Archives and Records Administration (NARA) and Office of Information Policy (OIP), U.S. Department of Justice (DOJ).

ACTION: Notice of meeting.

SUMMARY: We are announcing a meeting of the Chief Freedom of Information Act (FOIA) Officers Council, co-chaired by the Director of OGIS and the Director of OIP.

DATES: The meeting will be on Monday, December 15, 2025, from 10:00 a.m. to 11:30 a.m. ET. You must register to attend. (See registration information below.)

ADDRESSES: This meeting will be a virtual meeting. We will send access instructions for the meeting to those who register according to the instructions below.

FOR FURTHER INFORMATION CONTACT: Martha Murphy, by email at ogis@nara.gov with the subject line “Chief FOIA Officers Council,” or by telephone at 202-741-5770.

SUPPLEMENTARY INFORMATION: This meeting is open to the public in accordance with the Freedom of Information Act (5 U.S.C. 552(k)). Additional details about the meeting, including the agenda, will be available on the Chief FOIA Officers Council website at https://www.foia.gov/chief-foia-officers-council.

Procedures: The virtual meeting is open to the public. If you wish to offer oral public comments during the public comments periods of the meeting, you must register in advance at https://www.zoomgov.com/webinar/register/WN_M3CZHun6Ry6vUGzOywhbrQ. You will be provided with information to access the meeting online. Public comments will be limited to three minutes per individual. We will also live-stream the meeting on the National Archives YouTube channel, https://youtube.com/live/VyzQWo6_0mw?feature=share, and include a captioning option. To request additional accommodations (e.g., a transcript), email ogis@nara.gov or call 202-741-5770. Members of the media who wish to register, those who are unable to register online, and those who require special accommodations, should contact Martha Murphy (contact information listed above).

Dated: November 24, 2025.
Alina M. Semo,
Director, Office of Government Information Services.

[FR Doc. 2025-21698 Filed 11-28-25; 8:45 am]

BILLING CODE 7515-01-P